DEPARTMENT OF EDUCATION

Applications for New Awards; Expanding Opportunity Through Quality Charter Schools Program (CSP)—Grants to Charter School Developers for the Opening of New Charter Schools and for the Replication and Expansion of High-Quality Charter Schools; Amendment and Extension of Deadline for Transmittal of Applications

AGENCY: Office of Innovation and Improvement, Department of Education.

ACTION: Notice; Amendment and Extension of Deadline for Transmittal of Applications.

SUMMARY: On March 2, 2018, we published in the Federal Register (83 FR 8974) a notice inviting applications (NIA) for new awards for fiscal year (FY) 2018 for the CSP Grants to Developers for the Opening of New Charter Schools and for the Replication and Expansion of High-Quality Charter Schools, Catalog of Federal Domestic Assistance (CFDA) Numbers 84.282B and 84.282E. Since that time, Congress passed and the President signed the Consolidated Appropriations Act, 2018 (Act), which provides funding for the awards under this competition. This document amends the NIA by: (1) Stating that the Secretary may fund out of rank order applications proposing to open a new charter school or replicate or expand a high-quality charter school in underserved, high-poverty, rural areas; and (2) adding definitions related to funding such applications out of rank order.

In addition, we are extending the deadline for transmittal of applications by two weeks, until April 30, 2018.

DATES:

Deadline for Transmittal of Applications: April 30, 2018.

Deadline for Intergovernmental Review: June 29, 2018.

FOR FURTHER INFORMATION CONTACT: Eddie Moat, U.S. Department of Education, 400 Maryland Avenue SW., Room 4W224, Washington, DC 20202-5970. Telephone: (202) 401-2266. Email: eddie.moat@ed.gov.

If you use a telecommunications device for the deaf (TDD) or a text telephone (TTY), call the Federal Relay Service, toll free, at 1-800-877-8339.

SUPPLEMENTARY INFORMATION:

Following publication of the NIA, Congress passed and the President signed the Act, which provides funding for the awards under this competition. The report accompanying the Act (the Statement of the Managers) ¹ includes language reflecting congressional intent that, of these funds, “up to $7,500,000 [is] for developer grants to establish or expand charter schools in underserved, high-poverty, rural areas.” The Statement of the Managers modifies language in the report accompanying the Senate appropriations committee bill,² which indicates congressional intent for CSP appropriations to include “dedicated funding to expand charter schools in rural areas.” Taking into account this language, we are amending the NIA to notify prospective applicants that the Secretary may fund out of rank order applications proposing to open a new charter school or replicate or expand a high-quality charter school in underserved, high-poverty, rural areas; and to add definitions related to funding such applications out of rank order. In addition, we are extending the deadline for transmittal of applications for the competition by two weeks.

¹ See www.congress.gov/crec/2018/03/22/CREC-2018-03-22-bk3.pdf.

² See www.congress.gov/115/crpt/srpt150/CRPT-115srpt150.pdf.

All other requirements and conditions stated in the NIA remain the same.

Amendments

In FR Doc. No. 2018-04294, in the Federal Register of March 2, 2018 (83 FR 8974), we make the following amendments:

(a) On page 8974, in the middle column, after the words “Deadline for Transmittal of Applications:” we are removing the date “April 16, 2018” and replacing it with the date “April 30, 2018”.

(b) On page 8974, in the middle column, after the words “Deadline for Intergovernmental Review:” we are removing the date “June 15, 2018” and replacing it with the date “June 29, 2018”.

(c) On page 8978, in the middle of the first column following the definition of “expand”, we are adding the following definition, which we are establishing for FY 2018 and any subsequent year in which we make awards from the list of unfunded applications from this competition, in accordance with section 437(d)(1) of the General Education Provisions Act (GEPA), 20 U.S.C. 1232(d)(1):

High-poverty school means a school in which at least 50 percent of students are from low-income families as determined using one of the measures of poverty specified under section 1113(a)(5) of the Elementary and Secondary Education Act of 1965 (ESEA), as amended. For middle and high schools, eligibility may be calculated on the basis of comparable data from feeder schools. Eligibility as a high-poverty school under this definition is determined on the basis of the most currently available data.

(d) On page 8978, in the middle of the second column, following the definition of “rural local educational agency”, we are adding the following definition, which we are establishing for FY 2018 and any subsequent year in which we make awards from the list of unfunded applications from this competition, in accordance with section 437(d)(1) of GEPA:

Underserved community means a community that has limited access to high-quality educational options.

(e) On page 8981, beginning in the middle column, at the end of section V.2 (Review and Selection Process), we are adding the following paragraph:

Depending upon the number and quality of applications received, the Department may fund out of rank order high-quality applications that propose to open a new charter school, or replicate or expand a high-quality charter school, that (a) is located in an underserved community (as defined in this notice); and (b) primarily serves students from rural local educational agencies with at least one high-poverty school (as defined in this notice). To be considered for funding out of rank order, we encourage an applicant to include in its application (i) a statement that it is proposing to open a new charter school, or replicate or expand a high-quality charter school, that is located in an underserved community and primarily serves students from rural local educational agencies with at least one high-poverty school; and (ii) a description of how the proposed project meets each of the above criteria. If an application that is within funding range contains insufficient information to verify that the application meets these criteria, we may contact the applicant to obtain additional relevant information.

Program Authority: Title IV, part C of the ESEA (20 U.S.C. 7221-7221j).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 10, 2018.
Margo Anderson,
Acting Assistant Deputy Secretary for Innovation and Improvement.

[FR Doc. 2018-07744 Filed 4-12-18; 8:45 am]

BILLING CODE 4000-01-P